DEPARTMENT OF HEALTH AND HUMAN SERVICES

Food and Drug Administration

[Docket No. 2004N-0539]

Establishing a Docket for the Development of Plasma Standards Public Workshop; Notice

Correction

In notice document 04-28655 beginning on page 91 in the issue of Monday, January 3, 2005 make the following correction:

On page 92, in the first column, under the DATES section, in the sixth line, “July 5, 2004” should read “ July 5, 2005”.

[FR Doc. C4-28655 Filed 1-6-05; 8:45 am]

BILLING CODE 1505-01-D

SECURITIES AND EXCHANGE COMMISSION

17 CFR Parts 200, 201, 230, 240, 242, 249, and 270

[Release No. 34-50870; File No. S7-10-04]

RIN 3235-AJ18

Regulation NMS

Correction

In proposed rule document 04-27934 beginning on page 77424 in the issue of Monday, December 27, 2004 make the following corrections:

1. On page 77463, in the first column, add footnote 17 to read as follows: ³¹⁷See, e.g. ArcaEx Letter at 12; Brut Letter at 22; Instinet Letter at 41; NSX Letter at 6; Phlx Letter at 4; Letter from Ronald A. Oguss, President Xanadu Investment Co., to Jonathon G. Katz, Secretary, Commission, dated June 29, 2004 (“Xanadu Letter”) at 2.

2. On the same page, in the third column, remove the duplicate footnotes 313-316.

[FR Doc. C4-27934 Filed 1-6-05; 8:45 am]

BILLING CODE 1505-01-D